DEPARTMENT OF LABOR

Employment and Training Administration

Notice of Determinations Regarding Eligibility to Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of February-March 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of section 246(a)(3)(A)(ii) of the Trade Act must be met.

I. Whether a significant number of workers in the workers' firm are 50 years of age or older.

II. Whether the workers in the workers' firm possess skills that are not easily transferable.

III. The competitive conditions within the workers' industry (i.e., conditions within the industry are adverse).

Affirmative Determinations for Worker Adjustment Assistance and Alternative Trade Adjustment Assistance

The following certifications have been issued; the date following the company name and location of each determination references the impact date for all workers of such determination.

The following certifications have been issued. The requirements of (a)(2)(A) (increased imports) of section 222, and section 246(a)(3)(A)(ii) of the Trade Act have been met.

TA-W-58,646; Klaussner Furniture Ind., Asheboro, NC: December 22, 2004.

TA-W-58,655; Terumo Medical Corporation, TMC Div., Elkton, MD: January 18, 2005.

TA-W-58,665; American Racing Equipment, Inc., Subsidiary of Platinum Equity, Rancho Dominguez, CA: August 10, 2005.

TA-W-58,765; J.G. Garment, Bailey, NC: January 31, 2005.

TA-W-58,824; Krueger International, Tupelo, MS: January 30, 2005.

TA-W-58,824A; Krueger International, Pontotoc, MS: January 30, 2005.

TA-W-58,870; National Manufacturing Co., a subsidiary of the Stanley Works, Sterling, IL: December 6, 2005.

TA-W-58,575; Lear Corporation, Interior Systems Div., Marshall, MI: January 3, 2005.

TA-W-58,709; Longwood Engineered Products, Inc., Norwich, CT: January 24, 2005.

TA-W-58,734; Conflandey, Inc., Whiteville, NC: January 26, 2005.

TA-W-58,746; U.S. Repeating Arms Co., New Haven, CT: January 30, 2005.

TA-W-58,771; Richmond Yarns, Inc., Ellerbe, NC: January 31, 2005.

TA-W-58,779; Moldex Corporation, Tool Shop, Meadville, PA: February 2, 2005.

TA-W-58,761; Carm Newsome Hosiery, Inc., Fort Payne, AL: January 24, 2005.

TA-W-58,767; Houston Hosiery Mills, Valdese, NC: January 25, 2005.

The following certifications have been issued. The requirements of (a)(2)(B) (shift in production) of section 222, and section 246(a)(3)(A)(ii) of the Trade Act have been met.

TA-W-58,533; Selco, Inc., Austin, TX: December 21, 2004.

TA-W-58,710; Tyco Electronics, Microdot Connectors Division, South Pasadena, CA: January 20, 2005.

TA-W-58,797; TM Tool and Die, Inc., Workers at Black and Decker, Fayetteville, NC: February 2, 2005.

TA-W-58,810; Dura Automotive Systems, North American Body and Glass, Lawrenceburg, TN: February 6, 2005.

TA-W-58,812; Libralters Plastics, Inc., Walled Lake, MI: January 25, 2005.

TA-W-58,826; After Six, Inc., Athens, GA: February 7, 2005.

TA-W-58,843; Align Technology, Inc., Santa Clara, CA: February 8, 2005.

TA-W-58,856; Ensign-Bickford Company (The), Trojan Explosives Plant, Booster, Spanish Fork, UT: February 15, 2005.

TA-W-58,873; AstenJohnson, Inc., Forming Div., Warrendale, PA: February 20, 2005.

TA-W-58,650; Continental AFA Dispensing Co., Forest City, NC: January 16, 2005.

TA-W-58,751; Gerber Plumbing Fixtures LLC, Kokomo Sanitary Pottery Division, Div. of Globe Union Industrial Corp., Kokomo, IN: January 30, 2005.

The following certification has been issued. The requirement of supplier to a trade certified firm, and Section 246(a)(3)(A)(ii) of the Trade Act have been met.

TA-W-58,747; Cone Denim LLC, White Oak Division, Greensboro, NC: December 4, 2005.

TA-W-58,753; Invista S.A.R.L, Apparel-Spandex Div., Waynesboro, VA: January 27, 2005.

TA-W-58,656; Andrews Wire, L and P Wire Division, Andrews, SC: January 16, 2005.

The following certification has been issued. The requirement of downstream producer to a trade certified firm and section 246(a)(3)(A)(ii), and Section 246(a)(3)(A)(ii) of the Trade Act have been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,723; Elliott Company, Formerly known as Elliott Turbo Machinery Co., Jeannette, PA.

The investigation revealed that criteria (a)(2)(A)(I.B.) (Sales or production, or both, did not decline) and (a)(2)(B)(II.B) (shift in production to a foreign country) have not been met.

TA-W-58,643; Collins and Aikman, Nashville, TN.

TA-W-58,649; Mondi Packaging Akrosil LLC, formerly Thilmany Akrosil, Menasha, WI.

TA-W-58,694; Doranco, Inc., Mansfield, MA.

TA-W-58,706; Donaldson Company, Inc., Chillicothe, MO.

TA-W-58,727; Hollister Incorporated, Kirksville Manufacturing Facility, Kirksville, MO.

TA-W-58,821; Curly's Dairy/Wilcox Family Farms, Salem, OR.

The investigation revealed that criteria (a)(2)(A)(I.C.) (increased imports) and (a)(2)(B)(II.B) (No shift in production to a foreign country) have not been met.

TA-W-58,342; Studio Resource, Milwaukie, OR.

TA-W-58,462; Key Plastics, Hartford City, IN.

TA-W-58,609; American Decorative Surfaces, Inc., Dupo, IL.

TA-W-58,663; Classic Print Products, Inc., Burlington, NC.

TA-W-58,735; Frank Morrow Co., Providence, RI.

TA-W-58,742; Johnson Controls, Inc., Hoover Automotive Division, Jefferson City, MO.

TA-W-58,741; Singer Hosiery Mills, Inc., Thomasville, NC.

The investigation revealed that criteria (a)(2)(A)(I.C.) (Increased imports and (a)(2)(B)(II.C) (has shifted production to a foreign country) have not been met.

TA-W-58,624; Fairchild Semiconductor International, Mountain Top, PA.

The workers firm does not produce an article as required for certification under section 222 of the Trade Act of 1974.

TA-W-58,621; Murata Electronics North America, State College, PA.

TA-W-58,635; LandAmerica Tax and Flood, a subsidiary of Land America Financial Group, Englewood, CO.

TA-W-58,728; U.S. Security Associates, Working on-site at Techneglas, Inc., Pittston, PA.

TA-W-58,780; Direct Source Industries, San Francisco, CA.

TA-W-58,899; Pacific Cycle, Inc., Formerly Known as Brunswick Bicycles, Olney, IL.

The investigation revealed that criteria (2) has not been met. The workers firm (or subdivision) is not a supplier or downstream producer to trade-affected companies.

None.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,723; Elliott Company, Formerly known as Elliott Turbo Machinery Co., Jeannette, PA.

TA-W-58,643; Collins and Aikman, Nashville, TN.

TA-W-58,649; Mondi Packaging Akrosil LLC, formerly Thilmany Akrosil, Menasha, WI.

TA-W-58,694; Doranco, Inc., Mansfield, MA.

TA-W-58,706; Donaldson Company, Inc., Chillicothe, MO.

TA-W-58,727; Hollister Incorporated, Kirksville Manufacturing Facility, Kirksville, MO.

TA-W-58,821; Curly's Dairy/Wilcox Family Farms, Salem, OR.

TA-W-58,342; Studio Resource, Milwaukie, OR.

TA-W-58,462; Key Plastics, Hartford City, IN.

TA-W-58,609; American Decorative Surfaces, Inc., Dupo, IL.

TA-W-58,663; Classic Print Products, Inc., Burlington, NC.

TA-W-58,735; Frank Morrow Co., Providence, RI.

TA-W-58,742; Johnson Controls, Inc., Hoover Automotive Division, Jefferson City, MO.

TA-W-58,624; Fairchild Semiconductor International, Mountain Top, PA.

TA-W-58,741; Singer Hosiery Mills, Inc., Thomasville, NC.

TA-W-58,621; Murata Electronics North America, State College, PA.

TA-W-58,635; LandAmerica Tax and Flood, a subsidiary of LandAmerica Financial Group, Englewood, CO.

TA-W-58,728; U.S. Security Associates, Working on-site at Techneglas, Inc., Pittston, PA.

TA-W-58,780; Direct Source Industries, San Francisco, CA.

TA-W-58,899; Pacific Cycle, Inc., Formerly Known as Brunswick Bicycles, Olney, IL.

The Department has determined that criterion (1) of section 246 has not been met. Workers at the firm are 50 years of age or older.

TA-W-58,734; Conflandey, Inc., Whiteville, NC.

TA-W-58,761; Carm Newsome Hosiery, Inc., Fort Payne, AL.

The Department has determined that criterion (2) of section 246 has not been met. Workers at the firm possess skills that are easily transferable.

TA-W-58,533; Selco, Inc., Austin, TX.

The Department has determined that criterion (3) of section 246 has not been met. Competition conditions within the workers' industry are not adverse.

None.

I hereby certify that the aforementioned determinations were issued during the month of February-March 2006. Copies of These determinations are available for inspection in Room C-5311, U.S. Department of Labor, 200 Constitution Avenue, NW., Washington, DC 20210 during normal business hours or will be mailed to persons who write to the above address.

Dated: March 15, 2006.
Erica R. Cantor,
Director, Division of Trade Adjustment Assistance.

[FR Doc. E6-4308 Filed 3-23-06; 8:45 am]

BILLING CODE 4510-30-P